DEPARTMENT OF ENERGY

Federal Energy Regulatory Commission

Notice of Application Accepted for Filing and Soliciting Motions to Intervene and Protests

June 20, 2002.

Take notice that the following hydroelectric application has been filed with the Commission and is available for public inspection:

a. Type of Application: New Major License

b. Project No.: 2180-007

c. Date Filed: June 26, 2001

d. Applicant: PCA Hydro Inc.

e. Name of Project: Grandmother Falls Hydroelectric Project

f. Location: On the Wisconsin River near the town of Bradley, Lincoln County, Wisconsin.

g. Filed Pursuant to: Federal Power Act 16 U.S.C. 791 (a)-825(r).

h. Applicant Contact: Mr. Kenneth Schulz, Packaging Company of America, N9090 County Road E, Tomahawk, Wisconsin. 54487 (715) 453-2131 Ext. 499.

i. FERC Contact: Michael Spencer, michael.spencer@FERC.fed.us, (202) 219-2846.

j. Deadline for filing motions to intervene and protests: 60 days from the issuance date of this notice.

All documents (original and eight copies) should be filed with: Magalie Salas, Secretary, Federal Energy Regulatory Commission, 888 First Street, NE, Washington, DC 20426. Comments, protests and interventions may be filed electronically via the Internet in lieu of paper; see 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. k. Status of environmental analysis: This application is not ready for environmental analysis at this time. l. Description of Project: The existing project consists of: (1) A 39-foot-high, 450-foot-long concrete gravity dam with integral powerhouse and a gated section containing 8 Taintor gates; (2) a 370-foot-long, rock-filled dike with clay core; (3) a 758 acre reservoir with a normal storage capacity of 1,940 area-feet, at a normal pool elevation of 1,419.3 mean sea level; (4) a powerhouse containing three Francis turbines connected to generators with a combined capacity of 3,000 kW, and an average annual generation 17,897 MWh; (5) a 2,900-foot-long transmission line extending from the powerhouse to the Wisconsin Public Service line; and (5) appurtenant facilities. m. Locations of the application: A copy of the application is available for inspection and reproduction at the Commission's Public Reference Room, located at 888 First Street, NE, Room 2A, Washington, DC 20246, or by calling (202) 208-1371. This filing is also available for review at the Commission or may be viewed on the Commission's web site at http://www.ferc.gov using the “RIMS” link, select “Docket #” and follow the instructions (call 202-208-2222 for assistance). A copy is also available for inspection and reproduction at the address in item h. above. n. This notice also consists of the following standard paragraphs:

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Linwood A. Watson, Jr.,
Deputy Secretary.

[FR Doc. 02-16111 Filed 6-25-02; 8:45 am]

BILLING CODE 6717-01-P